DEPARTMENT OF DEFENSE

Department of the Army

Notice of Availability (NOA) of the Final Environmental Impact Statement (FEIS) for the Destruction of Chemical Agents and Munitions at Blue Grass Army Depot, KY

AGENCY: Department of the Army, DoD.

ACTION: Notice of availability.

SUMMARY: This announces the availability of the FEIS that assesses the potential environmental impacts of the design, construction, operation and closure of a facility to destroy the chemical agents and munitions currently stored at the Blue Grass Army Depot (BGAD). The FEIS examines the potential environmental impacts of the following destruction facility alternatives: (1) Baseline incineration facility; (2) neutralization followed by supercritical water oxidation; (3) neutralization followed by supercritical water oxidation and gas phase chemical reduction; (4) electrochemical oxidation; and (5) no action (i.e., continued storage of chemical munitions at BGAD). Although the no action alternative is not viable under Pub. L. 990145 (DoD Authorization Act of 1986), it was analyzed to provide a comparison with the proposed action. The FEIS identifies pilot testing of neutralization followed by supercritical water oxidation as the agency's preferred alternative for destruction of chemical munitions at BGAD.

DATES: The waiting period for the FEIS will end 30 days after publication of the NOA in the Federal Register by the U.S. Environmental Protection Agency.

ADDRESSES: To obtain copies of the FEIS, contact the Program Manager for Chemical Demilitarization, Public Outreach and Information Office (ATTN: Mr. Gregory Mahall), Building E-4585, Aberdeen Proving Ground, Maryland 21010-4005.

FOR FURTHER INFORMATION CONTACT: Mr. Gregory Mahall at 410-436-1093, by fax at 410-436-5122, by mail at the above listed address or by electronic mail at gregory.mahall@pmcd.apgea.army.mil.

SUPPLEMENTARY INFORMATION: In its Record of Decision (ROD) on February 26, 1988 (53 FR 5816, February 26, 1988) for the Final Programmatic Environmental Impact Statement on the Chemical Stockpile Disposal Program (CSDP), the Army selected on-site disposal by incineration at all eight chemical munition storage sites located within the continental United States as the method by which it will destroy its lethal chemical stockpile. The Army published a Notice of Intent in the Federal Register (65 FR 20140-41, December 4, 2000) which provided notice that, pursuant to the National Environmental Policy Act and implementing regulations, it was preparing a draft site-specific EIS for the Blue Grass Chemical Agent Disposal Facility. The Army published a Draft EIS to assess the site-specific health and environmental impacts of on-site disposal of the chemical agents and munitions stored at the BGAD on May 31, 2002. All public comments received on the DEIS have been addressed in the FEIS.

The Program Manager for Assembled Chemical Weapons Assessment (ACWA) prepared a separate EIS. The ACWA EIS is for follow-on pilot testing of the ACWA Program pursuant to the process established by Congress in Pub. L. 104-208 and 105-261. The ACWA EIS emphasizes the feasibility of pilot testing one or more of the ACWA technologies at one or more sites. One of the four sites evaluated in the ACWA EIS was the BGAD. Information provided by the ACWA Program concerning the neutralization technologies provided the basis for analysis of the neutralization technologies and comparison with incineration in this site-specific EIS for stockpile destruction at Blue Grass. This site-specific EIS and the ACWA EIS serve complementary purposes.

The decision for the technology to be implemented to destroy the chemical weapons stockpile at BGAD will be made by the DAE and a ROD will be signed following the end of the 30-day waiting period.

Dated: December 19, 2002.
Richard E. Newsome,
Acting Deputy Assistant Secretary of the Army (Environment, Safety and Occupational Health) OASA (I&E).

[FR Doc. 02-32669 Filed 12-26-02; 8:45 am]

BILLING CODE 3710-08-M